DEPARTMENT OF HEALTH AND HUMAN SERVICES

National Institutes of Health

Office of the Director, National Institutes of Health Amended Notice of Meeting

Notice is hereby given of a change in the meeting of the Advisory Committee to the Director, National Institutes of Health, December 12, 2019, 9:00 a.m. to December 13, 2019, 1:00 p.m., NIH, Building 1, Wilson Hall, 1 Center Drive, Bethesda, MD 20892 which was published in the Federal Register on May 2, 2019, 84 FR 18853.

The meeting notice is amended to add an additional agenda topic entitled, NIH Wide Strategic Plan for Fiscal Years 2021-2025. The meeting is open to the public.

Dated: November 19, 2019.
Natasha M. Copeland,
Deputy Director, Office of Federal Advisory Committee Policy.

[FR Doc. 2019-25478 Filed 11-22-19; 8:45 am]

BILLING CODE 4140-01-P